DEPARTMENT OF HEALTH AND HUMAN SERVICES

Centers for Disease Control and Prevention

[30 DAY-48-03]

Agency Forms Undergoing Paperwork Reduction Act Review

The Centers for Disease Control and Prevention (CDC) publishes a list of information collection requests under review by the Office of Management and Budget (OMB) in compliance with the Paperwork Reduction Act (44 U.S.C. chapter 35). To request a copy of these requests, call the CDC Reports Clearance Officer at (404) 498-1210. Send written comments to CDC, Desk Officer, Human Resources and Housing Branch, New Executive Office Building, Room 10235, Washington, DC 20503 or by fax to (202) 395-6974. Written comments should be received within 30 days of this notice.

Proposed Project

The National Tobacco Control Program (NTCP) Chronicle Progress Reporting System—New—National Center for Chronic Disease Prevention and Health Promotion (NCCDPHP), Centers for Disease Control and Prevention (CDC). Tobacco use is the single most preventable cause of death and disease in the United States. Most people begin using tobacco in early adolescence. Tobacco use causes more than 430,000 deaths annually in the nation and costs approximately $50-70 billion in medical expenses alone. The Centers for Disease Control and Prevention's (CDC) Office on Smoking and Health (OSH) provides funding to health departments of states and territories to develop, implement and evaluate comprehensive Tobacco Control Programs (TCPs) based on CDC guidelines provided in Best Practices for Comprehensive Tobacco Control Programs-August 1999 (Atlanta, GA, HHS). TCPs are population-based, public health programs that design, implement and evaluate public health prevention and control strategies to reduce disease, disability and death related to tobacco use and to reach those communities most impacted by the burden of tobacco use (e.g., racial/ethnic populations, rural dwellers, and the economically disadvantaged). Support for these programs is a cornerstone of the OSH's strategy for reducing the burden of tobacco use throughout the nation. CDC, Office on Smoking and Health is authorized under sections 301 and 317(k) of the Public Health Service Act (42 U.S.C. section 241 and 247b(k)).

As outlined in 45 CFR subtitle A, § 92.40, funding recipients are required to submit twice yearly progress reports to CDC. These reports are used by both the Procurement and Grants Office (PGO) to monitor program compliance, and by OSH managers and Project Officers (POs) to identify training and technical assistance needs; monitor compliance with cooperative agreement requirements; evaluate the progress made in achieving national and program-specific goals; and respond to inquiries regarding program activities and effectiveness. Funding recipients currently have a wide latitude in the content of the information they report with some recipients providing extensive and detailed programmatic information and others providing minimal detail regarding TCP operations. Historically, information has been collected and transmitted via hard-copy paper document. The manual reporting system significantly impacts the OSH's staff ability to accomplish its responsibilities resulting from providing TCP funds, particularly with respect to compiling, summarizing and reporting aggregate TCP program information.

In responding to the federal government's E-Government initiative, the proposed change in progress report collection methodology is driven by OSH's development of an electronic progress reporting system to collect state TCP information. The proposed reporting system will utilize a more formal, systematic method of collecting information that has historically been requested from individual TCPs and will standardize the content of this information. This will facilitate OSH staff's ability to fulfill its obligations under the cooperative agreements; to monitor, evaluate and compare individual programs; and to assess and report aggregate information regarding the overall effectiveness of OSH's National Tobacco Control Program (NTCP). It will also support OSH's broader mission of reducing the burden of tobacco use by enabling OSH staff to more effectively identify the strengths and weaknesses of individual TCPs; to identify the strength of national movement toward reaching the goals specified in Healthy People 2010; and to disseminate information related to successful public health interventions implemented by these organizations to prevent and control the burden of tobacco use. The OSH anticipates that the state burden of providing hard-copy reports will be reduced with the introduction of the web-based progress reporting system. It is assumed that states will experience a learning curve in using this application, and the reported burden will be reduced once they have familiarized themselves with this system. The annual burden for this data collection is 612 hours.

Respondents | Number of respondents | Number of responses per respondent | Average burden per respondent (in hours)
States and DC | 51 | 2 | 6

Dated: June 11, 2003.
Thomas A. Bartenfeld,
Acting Associate Director for Policy, Planning and Evaluation, Centers for Disease Control and Prevention.

[FR Doc. 03-15216 Filed 6-16-03; 8:45 am]

BILLING CODE 4163-18-P